FEDERAL COMMUNICATIONS COMMISSION

[FRS 17140]

Announcement of Renewal of Charter of the FCC Consumer Advisory Committee

AGENCY: Federal Communications Commission.

ACTION: Notice.

SUMMARY: In accordance with the Federal Advisory Committee Act, the Federal Communications Commission announces that the renewal of the charter of the FCC Consumer Advisory Committee (CAC) has been approved by the General Services Administration (GSA) for a two-year period. The CAC is a federal advisory committee under the Federal Advisory Committee Act.

DATES: Renewed for two years, starting October 16, 2020.

ADDRESSES: Federal Communications Commission, 445 12th Street SW, Washington, DC 20554.

FOR FURTHER INFORMATION CONTACT: Scott Marshall, Designated Federal Officer, FCC Consumer Advisory Committee, Consumer and Governmental Affairs Bureau, Federal Communications Commission, 445 12th Street SW, Washington, DC 20554; phone: 202-418-2809 (voice or Relay); email: scott.marshall@fcc.gov; or Gregory V. Haledjian, Deputy Designated Federal Officer, FCC Consumer Advisory Committee, Consumer and Governmental Affairs Bureau, Federal Communications Commission, 445 12th Street SW, Washington, DC 20554; phone: 202-418-7440; email: gregory.haledjian@fcc.gov.

SUPPLEMENTARY INFORMATION: In accordance with the Federal Advisory Committee Act, Public Law 92-463, as amended, this notice advises interested persons that the GSA has approved the renewal of the charter of the CAC for two years, commencing October 16, 2020. In keeping with its advisory role, the FCC Consumer Advisory Committee will continue to provide recommendations to the Commission on consumer topics, as specified by the Commission, gather data and information, and perform analyses that are necessary to respond to the questions or matters before it.

Federal Communications Commission.
Cecilia Sigmund,
Associate Secretary.

[FR Doc. 2020-22751 Filed 10-14-20; 8:45 am]

BILLING CODE P